DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on July 29, 2004 [69 FR 45370-45371].

DATES: Comments must be submitted on or before January 18, 2005.

FOR FURTHER INFORMATION CONTACT: P.L. Moore at the National Highway Traffic Safety Administration, Office of International Policy, Fuel Economy and Consumer Programs (NVS-131), 400 Seventh Street, SW., Room 5320, Washington, DC 20590. Mr. Moore's telephone number is (202) 366-5222.

SUPPLEMENTARY INFORMATION:

National Highway Traffic Safety Administration

Title: 49 CFR Part 575.104; Uniform Tire Quality Grading Standard.

OMB Number: 2127-0519.

Type of Request: Extension of a currently approved information collection.

Abstract: Part 575 requires tire manufacturers and tire brand owners to submit reports to NHTSA regarding the UTQGS grades of all passenger car tire lines they offer for sale in the United States. This information is used by consumers of passenger car tires to compare tire quality in making their purchase decisions. The information is provided in several different ways to insure that the consumer can readily see and understand the tire grades: (1) The grades are molded into the sidewall of the tire so that they can reviewed on both the new and old tires that are to be replaced; (2) a paper label is affixed to the tread face of the new tires that provides the grades of that particular tireline along with an explanation of the grading system; (3) tire manufacturers provide dealers with brochures for public distribution listing the grades of all tirelines they offer for sale; (4) NHTSA compiles the grading information of all manufacturer's tirelines into a booklet that is available to the public both in printed form and on the website.

Affected Public: All passenger car tire manufacturers and brand name owners offering passenger car tires for sale in the United States.

Estimated Total Annual Burden: NHTSA estimates that 79,650 man-hours are required at a cost of approximately $4 million to the tire manufacturers to comply with this regulation.

ADDRESSES: Send comments, within 30 days, to the Office of Information and Regulatory Affairs, Office of Management and Budget, 725 17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC, on December 8, 2004.
Stephen R. Kratzke,
Associate Administrator for Rulemaking.

[FR Doc. 04-27683 Filed 12-16-04; 8:45 am]

BILLING CODE 4910-59-P